DEPARTMENT OF ENERGY

Federal Energy Regulatory Commission

[Docket Nos. EG09-1-000; EG09-2-000; EG09-3-000; EG09-4-000; EG09-5-000; EG09-6-000; EG09-7-000; EG09-8-000]

Tanglewood Storage & Transportation LLC; Krayn Wind LLC; Otay Mesa Energy Center, LLC; Red Hills Wind Project, LLC; Barton Windpower II LLC; Barton Windpower LLC; Elm Creek Wind, LLC; Farmers City Wind, LLC; Notice of Effectiveness of Exempt Wholesale Generator Status

January 22, 2009.

Take notice that during the month of December 2008, the status of the above-captioned entities as Exempt Wholesale Generators Companies became effective by operation of the Commission's regulations 18 CFR 366.7(a).

Kimberly D. Bose,
Secretary.

[FR Doc. E9-1908 Filed 1-28-09; 8:45 am]

BILLING CODE 6717-01-P